DEPARTMENT OF HEALTH AND HUMAN SERVICES

Centers for Disease Control and Prevention

[30-Day-12-12ET]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Communications Research for the Development of Messages and Materials about Cytomegalovirus (CMV)—NEW—Prevention Research Branch, National Center on Birth Defects and Developmental Disabilities (NCBDDD), Centers for Disease Control and Prevention (CDC).

Background and Brief Description

Cytomegalovirus (CMV) is the most common congenital infection in the U.S., causing disabilities in more than 5,500 children born each year (CDC, 2010). Disabilities related to congenital CMV are more common than other well-known childhood conditions, such as Down syndrome, fetal alcohol syndrome, and neural tube defects, and can include hearing or vision loss, mental retardation, psychomotor delays, and speech and language impairment.

This is a multiphase communication research study that will help inform CDC's development of materials and prevention messaging about congenital CMV. The information collection activities will consist of two phases of research: Phase I will consist of focus groups and Phase II will consist of a web survey. First, we plan to conduct 8 focus groups with 9 respondents each to identify potential messaging frames for communicating information about congenital CMV to the target audiences and adopting CMV preventive guidelines. We will also conduct some preliminary testing of existing CDC CMV draft materials (factsheet and video). We estimate that we will screen 144 women in order to recruit 72 participants for the focus groups. These focus groups will be conducted in Atlanta, Georgia (4) and San Diego, California (4). Findings from the Phase I focus groups will inform refinements to existing CDC messages and materials (factsheet and video), which will be further tested in the second information collection activity, the web survey. Phase II research will include an online survey to test the refined communication interventions (factsheet and video). This web survey will: (1) Examine baseline awareness and knowledge regarding CMV, (2) assess baseline CMV prevention behaviors prior to viewing CMV communication interventions (factsheet and video), (3) assess appeal and evaluate the impact of CMV communication interventions on their attitudes, beliefs, and behavioral intentions regarding prevention behaviors and (4) assess knowledge, attitudes and behaviors pre- and post- interventions with a larger target audience sample (N=800). We estimate that we will screen 4,800 women in order to recruit 800 respondents for the online survey.

This request is submitted to obtain OMB clearance for two years. There are no costs to the respondents other than their time.

Estimated Annualized Burden Hours
Type of respondent | Form name | Number of respondents | Number of responses per respondent | Average burden per response (in hours) | Total burden hours
Phase I: Focus Groups
Women of childbearing age | Participant screener | 144 | 1 | 5/60 | 12
| Demographic questionnaire | 72 | 1 | 15/60 | 18
| Informed consent form | 72 | 1 | 15/60 | 18
| Focus group | 72 | 1 | 90/60 | 108
Phase II: Web Survey
Women of childbearing age | Participant per screener | 4,800 | 1 | 3/60 | 240
| Web Survey | 800 | 1 | 11/60 | 147

Dated: June 18, 2012.
Ron A. Otten,
Director, Office of Scientific Integrity (OSI), Office of the Associate Director for Science (OADS), Office of the Director, Centers for Disease Control and Prevention.

[FR Doc. 2012-15574 Filed 6-25-12; 8:45 am]

BILLING CODE 4163-18-P